DEPARTMENT OF STATE

[Public Notice: 12227]

Determination Under Section 620(q) of the Foreign Assistance Act of 1961 Relating to Assistance to Zimbabwe

Pursuant to the authority vested in me by section 620(q) of the Foreign Assistance Act of 1961 (FAA), Executive Order 12163, and Department of State Delegation of Authority 513, I hereby determine that targeted assistance to Zimbabwe in the areas of health, good governance and respect for human rights, education, leadership, agriculture/food security, poverty reduction, livelihoods, family planning and reproductive health, macroeconomic growth (including anti-corruption efforts), helping victims of trafficking and combatting trafficking, and advancing biodiversity and wildlife conservation, as well as the continuation of assistance that would have a significant adverse effect on vulnerable populations if suspended, is in the national interest of the United States and thereby waive the application of section 620(q) of the FAA with respect to such assistance.

This determination shall be published in the Federal Register and, with the accompanying Memorandum of Justification, shall be transmitted to Congress.

Dated: September 28, 2023.
Richard Verma,
Deputy Secretary of State for Management and Resources.

[FR Doc. 2023-23718 Filed 10-26-23; 8:45 am]

BILLING CODE 4710-26-P